DEPARTMENT OF LABOR

Employment and Training Administration

[TA-W-64,670; TA-W-64,670A]

NXP Semiconductors USA, Inc., A Subsidiary of NXP Semiconductors, Hopewell Junction, NY, Including a Leased Worker From Aviza Technology, Inc., Working Out of Roxbury, CT; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on January 23, 2009, applicable to workers of NXP Semiconductors USA, Inc., a subsidiary of NXP Semiconductors, Hopewell Junction, New York. The notice was published in the Federal Register on February 10, 2009 (74 FR 6653).

At the request of the State agency, the Department reviewed the certification for workers of the subject firm. The workers are engaged in the production of semiconductor wafers.

New information shows that a worker separation has occurred involving an employee (Mr. Norm Covert) leased from Aviza Technology, Inc. in support of NXP Semiconductors USA, Inc., a subsidiary of NXP Semiconductors, Hopewell Junction, New York, working out of Roxbury, Connecticut. The Department has determined that this employee was sufficiently under the control of the subject firm to be considered a leased worker.

Based on these findings, the Department is amending this certification to include an employee leased from Aviza Technology, Inc. in support of the Hopewell Junction, New York location of the subject firm working out of Roxbury, Connecticut.

The intent of the Department's certification is to include all workers of the subject firm adversely affected by the shift in production of semiconductor wafers to Singapore and the Netherlands.

The amended notice applicable to TA-W-64,670 is hereby issued as follows:

“All workers of NXP Semiconductors USA, Inc., a subsidiary of NXP Semiconductors, Hopewell Junction, New York (TA-W-64,670), including a leased worker from Aviza Technology, Inc. in support of NXP Semiconductors USA, Inc., a subsidiary of NXP Semiconductors, Hopewell Junction, New York, working out of Roxbury, Connecticut (TA-W-64,670A), who became totally or partially separated from employment on or after December 2, 2007, through January 23, 2011, are eligible to apply for adjustment assistance under Section 223 of the Trade Act of 1974, and are also eligible to apply for alternative trade adjustment assistance under Section 246 of the Trade Act of 1974.”

Signed at Washington, DC this 25th day of August 2009.
Elliott S. Kushner,
Certifying Officer, Division of Trade Adjustment Assistance.

[FR Doc. E9-22765 Filed 9-21-09; 8:45 am]

BILLING CODE 4510-FN-P